DEPARTMENT OF LABOR

Mine Safety and Health Administration

Petitions for Modification

The following parties have filed petitions to modify the application of existing safety standards under section 101(c) of the Federal Mine Safety and Health Act of 1977.

1. Consolidation Coal Company

[Docket No. M-2002-028-C]

Consolidation Coal Company, Consol Plaza, 1800 Washington Road, Pittsburgh, Pennsylvania 15241-1421 has filed a petition to modify the application of 30 CFR 75.364(b)(2) (Weekly examination) to its Loveridge No. 22 Mine (I.D. No. 46-01433) located in Marion County, West Virginia. The petitioner requests that the Proposed Decision and Order for its previously granted petition for modification, docket number M-93-275-C, be amended as it relates to air courses ventilating the No. 3 North seals and the No. 2-1/2 North seals at the Loveridge No. 22 Mine. The petitioner requests that paragraph 4 of the PDO be amended to permit a certified person to conduct weekly examinations of each of the eight (8) monitoring stations to evaluate the quality of (methane and oxygen content measured by a hand held instrument) and the quantity of air entering and exiting the monitoring station, and to determine air course leakage. The petitioner asserts that the proposed alternative method would provide at least the same measure of protection as the existing standard.

2. Consolidation Coal Company

[Docket No. M-2002-029-C]

Consolidation Coal Company, Consol Plaza, 1800 Washington Road, Pittsburgh, Pennsylvania 15241-1421 has filed a petition to modify the application of 30 CFR 75.364(b)(2) (Weekly examination) to its Loveridge No. 22 Mine (I.D. No. 46-01433) located in Marion County, West Virginia. The petitioner requests a modification of that part of the existing standard that requires a certified person to make a weekly examination of the return air course from the Back Door Seals and the 2 East Seals through the Main South headings to the Sugar Run return fan. The petitioner proposes to establish evaluation check points 1 through 9 to insure proper ventilation between the Back Door Seals and 2 East Seals area through the Main South headings to the Sugar Run return fan instead of conducting weekly examinations of the entire area. The petitioner asserts that the proposed alternative method would provide at least the same measure of protection as the existing standard.

3. Warrior Coal, LLC

[Docket No. M-2002-030-C]

Warrior Coal, LLC, P.O. Box Drawer 1210, Madisonville, Kentucky 42431 has filed a petition to modify the application of 30 CFR 75.1103-4(a) (Automatic fire sensor and warning device systems; installation; minimum requirements) to its Cardinal Mine (I.D. No. 15-17216) located in Hopkins County, Kentucky. The petitioner requests a modification of the existing standard to permit a carbon monoxide detection system to be installed in belt entries to identify a sensor location in lieu of identifying each belt flight. The petitioner proposes to install a carbon monoxide monitoring system as an early warning fire detection system in all belt entries. The petitioner has outlined specific procedures in this petition that would be used when implementing this proposed alternative method. The petitioner asserts that the proposed alternative method would provide at least the same measure of protection as the existing standard.

4. Drummond Company, Inc.

[Docket No. M-2002-031-C]

Drummond Company, Inc., P.O. Box 10246, Birmingham, Alabama 35202-0246 has filed a petition to modify the application of 30 CFR 75.902 (Low- and medium-voltage ground check monitor circuits) to its Shoal Creek Mine (I.D. No. 01-02901) located in Jefferson County, Alabama. The petitioner requests a modification of that part of the existing standard that pertains to circuits interruption by an approved ground check device causing a circuit breaker to open. The petitioner proposes to interrupt the low- and medium voltage circuits with ground check relays used in conjunction with fully rated contactors in lieu of circuit breakers. The petitioner states that this circuit arrangement would be used on low- and medium voltage power distribution circuits necessary for belt conveyor operation. The petitioner asserts that the proposed alternative method would provide at least the same measure of protection as the existing standard.

5. Fools Gold Energy Corporation

[Docket No. M-2002-032-C]

Fools Gold Energy Corporation, 2255 Upper Johns Creek Road, Kimper, Kentucky 41539 has filed a petition to modify the application of 30 CFR 75.503 (Permissible electric face equipment; maintenance) and 30 CFR 18.41(f) (Plug and receptacle-type connectors) to its No. 4 Mine (I.D. No. 15-16036) located in Pike County, Kentucky. The petitioner proposes to use permanently installed, spring-loaded locking devices to secure battery plugs on mobile battery-powered machines to prevent unintentional loosening of the battery plugs from battery receptacles, and to eliminate the potential hazards associated with difficult removal of padlocks during emergency situations. The petitioner asserts that using padlocks to secure battery plugs would result in diminution of safety to the miners.

6. Grace Mining, Inc.

[Docket No. M-2002-033-C]

Grace Mining, Inc., P.O. Box 520, Virgie, Kentucky 41572 has filed a petition to modify the application of 30 CFR 75.503 (Permissible electric face equipment; maintenance) and 30 CFR 18.41(f) (Plug and receptacle-type connectors) to its No. 4 Mine (I.D. No. 15-16583) located in Pike County, Kentucky. The petitioner proposes to use permanently installed, spring-loaded locking devices to secure battery plugs on mobile battery-powered machines to prevent unintentional loosening of the battery plugs from battery receptacles, and to eliminate the potential hazards associated with difficult removal of padlocks during emergency situations. The petitioner asserts that using padlocks to secure battery plugs would result in diminution of safety to the miners.

7. Chestnut Coal

[Docket No. M-2002-034-C]

Chestnut Coal, R.D. 3, Box 142B, Sunbury, Pennsylvania 17801 has filed a petition to modify the application of 30 CFR 75.1312(a) (Explosives and detonators in underground magazines) to its No. 10 Slope Mine (I.D. No. 36-07059) located in Northumberland County, Pennsylvania. The petitioner requests a modification of the existing standard to permit the quantity of explosives kept underground to be more than the maximum 48 hour supply. The petitioner proposes to transport explosive powder underground once a week and store the powder in an adequate storage magazine located in a dry area instead of storing a 48-hour supply of powder. The petitioner states that the powder would be used on a regular basis and any powder left over from the previous week would be rotated so that the old supply is used first. The petitioner also states that if the mine is idle for an extended period of time, any powder left in the magazine would be removed from the mine and sent back to the supplier. The petitioner asserts that the proposed alternative method would provide at least the same measure of protection as the existing standard.

8. Drummond Company, Inc.

[Docket No. M-2002-035-C]

Drummond Company, Inc., P.O. Box 10246, Birmingham, Alabama 35202-0246 has filed a petition to modify the application of 30 CFR 75.900 (Low- and medium-voltage circuits serving three-phase alternating current equipment; circuit breakers) to its Shoal Creek Mine (I.D. No. 01-02901) located in Jefferson County, Alabama. The petitioner requests a modification of the existing standard that pertain to the use of circuit breakers to provide undervoltage and grounded phase protection to low- and medium voltage circuits. The petitioner proposes to interrupt the low- and medium voltage circuits with ground check relays used in conjunction with fully rated contactors in lieu of using circuit breakers. The petitioner states that this circuit arrangement would be used on low- and medium voltage power distribution circuits necessary for belt conveyor operation. The petitioner asserts that the proposed alternative method would provide at least the same measure of protection as the existing standard.

9. New Century Mining, Inc.

[Docket No. M-2002-036-C]

New Century Mining, Inc., P.O. Box 1781, Alabaster, Alabama 35007-1781 has filed a petition to modify the application of 30 CFR 77.214(a) (Refuse piles; general) to its Pineywoods Preparation Plant (I.D. No. 01-02976) located in Shelby County, Alabama. The petitioner requests a modification of the existing standard to permit construction of a coarse refuse disposal area, Coarse Refuse Disposal Area No. 5, within the face-up area of the abandoned Kodiak Mine No. 1. The petitioner proposes to cover the existing sealed entries with additional impervious, non-combustible earthen material which would contain enough fines to ensure an airtight seal and place the material in lifts not to exceed 12 inches. The petitioner has listed in this petition specific procedures that would be used when implementing its proposed alternative method. The petitioner asserts that application of the existing standard would result in a diminution of safety to the miners and that the proposed alternative method would provide at least the same measure of protection as the existing standard.

10. Rivers Edge Mining, Inc.

[Docket No. M-2002-037-C]

Rivers Edge Mining, Inc., 1970 Barrett Court, P.O. Box 1990, Henderson, Kentucky 42420 has filed a petition to modify the application of 30 CFR 75.503 (Permissible electric face equipment; maintenance) and 30 CFR 18.41(f) (Plug and receptacle-type connectors) to its Rivers Edge Mine (I.D. No. 46-08890) located in Boone County, West Virginia. The petitioner proposes to use a threaded ring and a spring-loaded device instead of a padlock on all battery plug connectors on mobile battery-powered machines used inby the last open crosscut to prevent the plug connector from accidently disengaging while under load. Warning tags stating “Do Not Disengage Plugs Under Load” will be placed on all battery plug connectors on the battery-powered machines. The petitioner states that training in the safe practices and provision for compliance with its proposed alternative method would be provided to all persons who are required to operate or maintain the battery-powered machines. The petitioner asserts that application of the existing standard would result in a diminution of safety to the miners and that the proposed alternative method would provide at least the same measure of protection as the existing standard.

11. Coastal Coal—West Virginia, LLC

[Docket No. M-2002-038-C]

Coastal Coal—West Virginia, LLC, Brooks Run Operation, 61 Missouri Run Road, Cowen, West Virginia 26206 has filed a petition to modify the application of 30 CFR 75.1002 (Location of trolley wires, trolley feeder wires, high-voltage cables and transformers) to its Mine No. 4A East (I.D. No. 46-07125) located in Webster County, West Virginia. The petitioner proposes to use continuous mining machines with nominal voltage power circuits not to exceed 2,400 volts at its Mine No. 4A East. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before May 20, 2002. Copies of these petitions are available for inspection at that address.

Dated at Arlington, Virginia this 15th day of April, 2002.
Marvin W. Nichols, Jr.,
Director, Office of Standards, Regulations, and Variances.

[FR Doc. 02-9483 Filed 4-17-02; 8:45 am]

BILLING CODE 4510-43-P